DEPARTMENT OF TRANSPORTATION

Federal Aviation Administration

14 CFR Part 39

[Docket No. FAA-2007-0249; Directorate Identifier 2007-CE-088-AD; Amendment 39-15361; AD 2008-03-11]

RIN 2120-AA64

Airworthiness Directives; Alpha Aviation Design Limited Model R2160 Airplanes

AGENCY: Federal Aviation Administration (FAA), Department of Transportation (DOT).

ACTION: Final rule.

SUMMARY: We are superseding an existing airworthiness directive (AD) for the products listed above. This AD results from mandatory continuing airworthiness information (MCAI) issued by an aviation authority of another country to identify and correct an unsafe condition on an aviation product. The MCAI describes the unsafe condition as distortion of the rudder bars due to rudder control forces during aerobatic operation and nose wheel steering reaction forces. Rudder bar distortion could result in reduced control or loss of control. This AD requires actions that are intended to address the unsafe condition described in the MCAI.

DATES: This AD becomes effective March 11, 2008.

As of March 11, 2008, the Director of the Federal Register approved the incorporation by reference of certain publications listed in this AD.

ADDRESSES: You may examine the AD docket on the Internet at http://www.regulations.gov or in person at the Docket Management Facility, U.S. Department of Transportation, Docket Operations, M-30, West Building Ground Floor, Room W12-140, 1200 New Jersey Avenue, SE., Washington, DC 20590.

FOR FURTHER INFORMATION CONTACT: Karl Schletzbaum, Aerospace Engineer, 901 Locust, Room 301, Kansas City, Missouri 64106; telephone: (816) 329-4146; fax: (816) 329-4090.

SUPPLEMENTARY INFORMATION:

Discussion

We issued a notice of proposed rulemaking (NPRM) to amend 14 CFR part 39 to include an AD that would apply to the specified products. That NPRM was published in the Federal Register on November 27, 2007 (72 FR 66089) and proposed to supersede AD 87-08-01, Amendment 39-5601, published in 1987 and AD 99-01-04, Amendment 39-10971, published in 1999. That NPRM proposed to correct an unsafe condition for the specified products. The MCAI states that rudder control forces during aerobatic operation and nose wheel steering reaction forces may cause rudder bar distortion. Rudder bar distortion could result in reduced control or loss of control.

The MCAI requires you to replace the left and right rudder bars with reinforced rudder bars.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 9 products of U.S. registry. We also estimate that it will take about 3 work-hours per product to comply with basic requirements of this AD. The average labor rate is $80 per work-hour. Required parts will cost about $657 per product.

Based on these figures, we estimate the cost of this AD to the U.S. operators to be $8,073 or $897 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-5601 and Amendment 39-10971 and adding the following new AD:

2008-03-11 Alpha Aviation Design Limited: Amendment 39-15361; Docket No. FAA-2007-0249; Directorate Identifier 2007-CE-088-AD.

Effective Date

(a) This airworthiness directive (AD) becomes effective March 11, 2008.

Affected ADs

(b) This AD supersedes AD 87-08-01, Amendment 39-5601; and AD 99-01-04, Amendment 39-10971.

Applicability

(c) This AD applies to Model R2160 airplanes, serial numbers 1 through 378, that:

(1) Are certificated in any category; and

(2) Have not installed the improved design rudder bars part number (P/N) 27.40.31.010 and P/N 27.40.31.020 following either Avions Pierre Robin Service Bulletin No. 143, dated September 8, 1995, or Alpha Aviation Service Bulletin AA-SB-27-003, dated October 19, 2007.

Subject

(d) Air Transport Association of America (ATA) Code 27: Flight Controls.

Reason

(e) The mandatory continuing airworthiness information (MCAI) states that rudder control forces during aerobatic operation and nose wheel steering reaction forces may cause rudder bar distortion. Rudder bar distortion could result in reduced or loss of control. The MCAI requires you to replace the left and right rudder bars with reinforced rudder bars.

Restatement of Requirements of AD 99-01-04

(f) For airplanes with serial numbers 250 through 378: Unless already done, within the next 50 hours time-in-service (TIS) after March 12, 1999 (the effective date of AD 99-01-04) replace the left and right rudder bars, part number (P/N) 27.23.01.010 (left) and P/N 27.23.01.020 (right), with the reinforced rudder bars, P/N 27.40.31.010 (left) and P/N 27.40.31.020 (right) or FAA-equivalent part numbers, following Alpha Aviation Service Bulletin AA-SB-27-003, dated October 19, 2007.

New Requirements of This AD: Actions and Compliance

(g) For airplanes with serial numbers 1 through 249: Unless already done, within the next 50 hours TIS after the effective date of this AD or within the next 3 months after the effective date of this AD, whichever occurs first, replace the left and right rudder bars, P/N 27.23.05.010 (left) and P/N 27.23.05.020 (right), with the reinforced rudder bars, P/N 27.40.31.010 (left) and P/N 27.40.31.020 (right) or FAA-equivalent part numbers, following Alpha Aviation Service Bulletin AA-SB-27-003, dated October 19, 2007.

FAA AD Differences

Note: This AD differs from the MCAI and/or service information as follows: No differences.

Other FAA AD Provisions

(h) The following provisions also apply to this AD:

(1) Alternative Methods of Compliance (AMOCs): The Manager, Standards Office, FAA, has the authority to approve AMOCs for this AD, if requested using the procedures found in 14 CFR 39.19. Send information to ATTN: Karl Schletzbaum, Aerospace Engineer, FAA, Small Airplane Directorate, 901 Locust, Room 301, Kansas City, Missouri 64106; telephone: (816) 329-4146; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to New Zealand Civil Aviation Authority AD DCA/R2000/23B, dated October 25, 2007; and Alpha Aviation Service Bulletin AA-SB-27-003, dated October 19, 2007, for related information.

Material Incorporated by Reference

(j) You must use Alpha Aviation Service Bulletin AA-SB-27-003, dated October 19, 2007, to do the actions required by this AD, unless the AD specifies otherwise.

(1) The Director of the Federal Register approved the incorporation by reference of this service information under 5 U.S.C. 552(a) and 1 CFR part 51.

(2) For service information identified in this AD, contact Alpha Aviaton, Ingram Road, Hamilton Airport, RD 2, Hamilton 2021, New Zealand; telephone: +64 7 843 7070; fax: +64 7 843 8040; Internet: www.alphaaviation.co.nz.

(3) You may review copies at the FAA, Central Region, Office of the Regional Counsel, 901 Locust, Room 506, Kansas City, Missouri 64106; or at the National Archives and Records Administration (NARA). For information on the availability of this material at NARA, call 202-741-6030, or go to: http://www.archives.gov/federal_register/code_of_federal_regulations/ibr_locations.html.

Issued in Kansas City, Missouri, on January 23, 2008.
John Colomy,
Acting Manager, Small Airplane Directorate, Aircraft Certification Service.

[FR Doc. E8-1829 Filed 2-4-08; 8:45 am]

BILLING CODE 4910-13-P